DEPARTMENT OF TRANSPORTATION

Federal Motor Carrier Safety Administration

[Docket No. FMCSA-2010-0167]

RIN 2126-AB20

Electronic Logging Devices and Hours of Service Supporting Documents; Evaluating the Potential Safety Benefits of Electronic Hours-of-Service Recorders

ACTION: Notice of availability of research report.

SUMMARY: The Federal Motor Carrier Safety Administration (FMCSA) announces the availability of a new final report, “Evaluating the Potential Safety Benefits of Electronic Hours-of-Service Recorders.” The study quantitatively evaluated whether trucks equipped with Electronic Hours-of-Service Recorders (EHSRs) have a lower (or higher) crash and hours-of-service (HOS) violation rate than those without EHSRs. The safety benefits of EHSRs were quantitatively evaluated by comparing the crash risk for two exposure groups (i.e., EHSRs were considered to improve safety if the trucks with EHSRs showed a lower crash risk than trucks without EHSRs). For this project, EHSRs were defined as any device that electronically records drivers' HOS. The study is an effort to further quantify the safety benefits of electronic logging devices (ELDs) and provides results that are consistent with the Agency's estimates of safety benefits of an ELD mandate, as proposed on March 28, 2014. A copy of the report has been placed in the docket referenced at the beginning of this notice.

ADDRESSES: You may submit comments bearing the Federal Docket Management System (FDMS) Docket ID FMCSA-2010-0167 using any of the following methods:

• Federal eRulemaking Portal: Go to www.regulations.gov. Follow the on-line instructions for submitting comments.

• Mail: Docket Management Facility; U.S. Department of Transportation, 1200 New Jersey Avenue SE., West Building Ground Floor, Room W12-140, Washington, DC 20590-0001.

• Hand Delivery or Courier: West Building Ground Floor, Room W12-140, 1200 New Jersey Avenue SE., Washington, DC, between 9 a.m. and 5 p.m. Monday through Friday, except Federal Holidays.

• Fax: 1-202-493-2251.

Each submission must include the Agency name and the docket number for this notice. Note that DOT posts all comments received without change to www.regulations.gov, including any personal information included in a comment. Please see the Privacy Act heading below.

Docket: For access to the docket to read background documents or comments, go to www.regulations.gov at any time or visit Room W12-140 on the ground level of the West Building, 1200 New Jersey Avenue SE., Washington, DC, between 9 a.m. and 5 p.m., ET, Monday through Friday, except Federal holidays. The on-line Federal document management system is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System published in the Federal Register on January 17, 2008 (73 FR 3316), or you may visit http://edocket.access.gpo.gov/2008/pdf/E8-785.pdf.

FOR FURTHER INFORMATION CONTACT: For information concerning this study, please contact Mr. Albert Alvarez, Research Division of the Office of Analysis, Research, and Technology, Federal Motor Carrier Safety Administration, 1200 New Jersey Avenue SE., Washington, DC 20590-0001 or by telephone at 202-385-2377.

SUPPLEMENTARY INFORMATION:

I. Public Participation and Request for Comments

FMCSA encourages you to participate by submitting comments and related materials.

Submitting Comments

If you submit a comment, please include the docket number for this notice (FMCSA-2010-0167), indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number, “FMCSA-2010-0167” in the “Keyword” box, and click “Search.” When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this notice based on your comments.

Viewing Comments and Documents

To view comments, as well as other documents available in the docket, go to http://www.regulations.gov and insert the docket number, “FMCSA-2010-0167” in the “Keyword” box and click “Search.” Next, click the “Open Docket Folder” button and choose the document listed to review. If you do not have access to the Internet, you may view the docket online by visiting the Docket Management Facility in Room W12-140 on the ground floor of the DOT West Building, 1200 New Jersey Avenue SE., Washington, DC 20590, between 9 a.m. and 5 p.m. Monday through Friday, except Federal holidays.

Privacy Act

All comments received will be posted without change to http://www.regulations.gov and will include any personal information you have provided. Anyone may search the electronic form of all comments received into any of our dockets by the name of the individual submitting the comment (or of the person signing the comment, if submitted on behalf of an association, business, labor union, etc.). You may review DOT's complete Privacy Act Statement in the Federal Register published on January 17, 2008 (73 FR 3316), or you may visit http://edocket.access.gpo.gov/2008/pdf/E8-785.pdf.

II. The Study

The purpose of the study was to assess the benefits of installed EHSRs on safety and HOS violations related to Class 7 and 8 trucks as they operated during normal revenue-producing deliveries. Data were obtained through a third-party vendor that compiled previously-generated compliance data regarding participating motor carriers. Although the final data sets included data from 11 carriers representing small, medium, and large carriers (including a total of 82,943 crashes, 970 HOS violations, and 224,034 truck-years that drove a total of 15.6 billion miles), the data set in the study was skewed toward larger, for-hire carriers and may not represent the overall U.S. trucking population. After controlling for year, carriers in the data set, onboard safety system (OBSS) status, and long-haul/regional indicator, EHSR-equipped trucks had a significantly lower total crash rate (11.7 percent reduction) and a significantly lower preventable crash rate (5.1 percent reduction) than trucks not equipped with an EHSR. Small sample sizes limited the power to detect a significant difference between the EHSR cohort and the non-EHSR cohort for U.S. Department of Transportation (USDOT)-recordable and fatigue-related crashes. This result is primarily attributed to the lack of sufficient data (in terms of the number of these types of crashes) to be able to detect safety benefits with statistical significance at the observed level.

After controlling for year, carrier index, OBSS status, and long-haul/regional indicator, EHSR-equipped trucks had a 53 percent lower driving-related HOS violation rate and a 49 percent lower non-driving-related HOS violation rate than trucks not equipped with EHSRs. The results show a clear safety benefit, in terms of crash and HOS violation reductions, for trucks equipped with EHSRs.

The Center for Truck and Bus Safety at the Virginia Tech Transportation Institute conducted the study on behalf of FMCSA. This study was mentioned in the Friday, March 28, 2014 Supplemental Notice of Proposed Rulemaking (SNPRM) (79 FR 17656, 17665), and the findings of this study are consistent with the estimate of safety benefits presented in the ELD SNPRM.

FMCSA makes the “Evaluating the Potential Safety Benefits of Electronic Hours-of-Service Recorders” available to the public and places this study in the docket for the ELD rulemaking, because FMCSA seeks comments from the public on this study as it relates to the SNPRM. The docket for this rulemaking closes on May 27, 2014.

Issued on: April 29, 2014.
Larry W. Minor,
Associate Administrator for Policy.

[FR Doc. 2014-10813 Filed 5-9-14; 8:45 am]

BILLING CODE 4910-EX-P